DEPARTMENT OF HEALTH AND HUMAN SERVICES

Office of the Secretary

[Document Identifier: OS-0990-0001; 60-day notice]

Agency Information Collection Activities: Proposed Collection; Comment Request

Agency: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision, of a currently approved collection.

Title of Information Collection: Application of Waiver of the 2 Year Foreign Residence Requirement of the Exchange Visitor Program.

Form/OMB No.: OS-0990-0001.

Use: Form and supplementary information sheets (Supplement A—Research and Supplement B—Clinical Care) is used by this Department to make a determination, in accordance with its published regulations, as to whether or not to request from the Department of State, a waiver of the two-year foreign residence requirement for applicants in the United states on a J-l visa. The J-l visa is an exchange visa which carried a two-year return home requirement.

Applicant institutions apply to this Department to request a waiver on behalf of foreign medical graduates to work in their medical facilities. Our current program deals with both research and clinical care waivers. Clinical care waivers allow medical centers, etc. to apply for a waiver of the residence requirement for physicians to work in HHS designated health manpower shortage areas doing primary care.

Frequency: Reporting, single time.

Affected Public: Regulatory or compliance; Application of benefits.

Annual Number of Respondents: 250.

Total Annual Responses: 250.

Average Burden Hours per Response: 10.

Total Annual Hours: 2500.

To obtain copies of the supporting statement and any related forms for the proposed paperwork collections referenced above, access the HHS Web site address at http://www.hhs.gov/oirm/infocollect/pending/ or e-mail your request, including your address, phone number, OMB number, and OS document identifier, to Sherette.funncoleman@hhs.gov, or call the Reports Clearance Office on (202) 690-6162. Written comments and recommendations for the proposed information collections must be received with 60-days, and directed to the OS Paperwork Clearance Officer at the following address: Department of Health and Human Services, Office of the Secretary, Assistant Secretary for Budget, Technology, and Finance, Office of Information and Resource Management, Attention: Sherrette Funn-Coleman (0990-0001), Room 531-H, 200 Independence Avenue, SW., Washington, DC 20201.

Dated: July 21, 2006.
Robert E. Polson,
Office of the Secretary, Paperwork Reduction Act Reports Clearance Officer.

[FR Doc. E6-12134 Filed 7-27-06; 8:45 am]

BILLING CODE 4150-38-P